DEPARTMENT OF DEFENSE

Department of the Air Force

Record of Decision for the Air Space Training Initiative Shaw Air Force Base, South Carolina Final Environmental Impact Statement

ACTION: Notice of Availability (NOA) of a Record of Decision (ROD).

SUMMARY: On December 9, 2011, the United States Air Force signed the ROD for the Airspace Training Initiative Shaw Air Force Base, South Carolina Final Environmental Impact Statement (EIS). The ROD states the Air Force decision to select the Preffered Alternative and adopt the mitigation measures identified in the Final EIS and also the additional compensatory mitigations identified after the Final EIS.

The decision was based on matters discussed in the Final EIS, inputs from the public and regulatory agencies, and other relevant factors. The Final EIS was made available to the public on June 25, 2010 through a NOA in the Federal Register (Volume 75, Number 122, Page 36386) with a wait period that ended on July 25, 2010. The ROD documents only the decision of the Air Force with respect to the proposed Air Force actions analyzed in the Final EIS.

Authority: This NOA is published pursuant to the regulations (40 CFR Part 1506.6) implementing the provisions of the NEPA of 1969 (42 U.S.C.. 4321, et seq.) and the Air Force's Environmental Impact Analysis Process (EIAP) (32 CFR Parts 989.21(b) and 989.24(b)(7))

FOR FURTHER INFORMATION CONTACT: Mr Jay Nash; HQ/USAF/A4/7, 1030 Air Force Pentagon, Washington, DC 20330-1030; (703) 693-4001.

Shannon N. Sanchez,
Acting Air Force Federal Register Liaison Officer.

[FR Doc. 2012-2617 Filed 2-3-12; 8:45 am]

BILLING CODE 5001-10-P